DEPARTMENT OF ENERGY

Federal Energy Regulatory Commission

[Project No. 2144-038; Project No. 2225-013]

City of Seattle, Public Utility District No. 1 of Pend Orielle County; Notice of Technical Conference and Site Visit for the Boundary Hydroelectric Project and Sullivan Creek Hydroelectric Project Settlement Agreement and Soliciting Scoping Comments on the Proposed Sullivan Creek Hydroelectric Project Surrender

May 11, 2010.

On March 29, 2010, the City of Seattle (City) and the Public Utility District No. 1 of Pend Oreille, County, Washington (District) filed a joint comprehensive settlement agreement (Settlement), explanatory statement and a request to consolidate the processing of the City's relicensing of the Boundary Hydroelectric Project No. 2144-038, and the District's surrender of its license for the Sullivan Creek Hydroelectric Project No. 2225-013. On April 2, 2010, the District filed an application to surrender the Sullivan Creek Project. Parts of both projects occupy lands within the Colville National Forest.

Technical Conference

Commission staff will hold a technical conference to discuss the proposed license articles for a new license for the Boundary Project and the proposed Sullivan Creek license surrender conditions submitted as part of the joint Settlement.

The technical conference will be held on Thursday, June 10, 2010, beginning at 9 a.m. (PST) at Quality Inn Oakwood, 7919 North Division, Spokane, WA. Participation at the technical conference will be limited to Commission staff and the Settlement Parties. However, the public is free to attend and provide comments on the scope of issues that should be addressed in the Commission's environmental assessment. The technical conference will be recorded by a court reporter, and all statements (verbal and written) will become part of the Commission's public record for the project. The conference and site visit described below are posted on the Commission's calendar located at http://www.ferc.gov/EventCalendar/EventsList.aspx along with other related information.

Site Visit

On Wednesday, June 9, 2010, Commission staff, along with representatives of the City and the District, will conduct a site visit of the Boundary and Sullivan Creek Projects. All interested individuals, organizations, and agencies are invited to attend. All participants should meet at the Boundary powerhouse gate at 10:15 a.m. (PST). For those persons only interested in the Sullivan Creek surrender, we will be at the Sullivan Lake Dam at 12:15 p.m. In addition, all participants are responsible for their own transportation to the site and throughout the day. Anyone planning to attend the site visit must notify Mary Pat Dileva at marypat.dileva@seattle.gov by Wednesday, June 2, 2010. RSVPs are required for security and planning purposes.

Scoping for the Surrender of the District's Sullivan Creek Project

Commission staff intends to prepare an environmental assessment (EA) covering both the relicensing of the Boundary Project and the surrender of the Sullivan Creek Project, pursuant to the National Environmental Policy Act of 1969, as amended. Scoping of the relicensing of the Boundary Project was completed in 2006. To support and assist our environmental review, we are conducting paper scoping of the Sullivan Creek surrender to ensure that all pertinent issues are identified and analyzed, and the EA is thorough. This notice solicits written comments from Federal, State, and local resource agencies, Indian tribes, and other interested persons through the scoping process.

All scoping comments should be submitted in writing to the Commission no later than June 25, 2010. All correspondence must clearly show at the top of the page: “Sullivan Creek Hydroelectric Project, FERC No. 2225-013.” Send your comments about the project to: Kimberly D. Bose, Secretary, Federal Energy Regulatory Commission, 888 First Street, NE., Washington, DC 20426. Scoping comments may be filed electronically via the Internet in lieu of paper. See 18 CFR 385.2001(a)(1)(iii) and the instructions on the Commission's Web site at http://www.ferc.gov under the “e-Filing” link. The Commission strongly encourages electronic filings.

For further information, contact David Turner at (202) 502-6091, or by e-mail at david.turner@ferc.gov.

Kimberly D. Bose,
Secretary.

[FR Doc. 2010-11791 Filed 5-17-10; 8:45 am]

BILLING CODE 6717-01-P